DEPARTMENT OF HOMELAND SECURITY

United States Visitor and Immigrant Status Indicator Technology (US-VISIT) Program; Notice of Availability of a Draft Programmatic Environmental Assessment (PEA) on the US-VISIT Plan for Potential Changes to Immigration and Border Management Processes

AGENCY: US-VISIT, DHS.

ACTION: Notice of Availability and Public Meetings.

SUMMARY: A Draft Programmatic Environmental Assessment (PEA) for the United States Visitor and Immigrant Status Indicator Technology (US-VISIT) Program is available for public review and comment. The Draft PEA examined potential for environmental impacts from each of the four strategic approaches to enhancing immigration and border management processes. These four approaches are aimed at improving information available to determine the identity and immigration status of individuals traveling to and from the United States.

DATES: The Draft PEA will be available for public review and comment from February 17, 2006 until March 18, 2006.

ADDRESSES: Copies of the Draft PEA may be obtained through the Internet at www.us-visitfacility.us or by writing US-VISIT Program-Comments, Attn: Environmental Programs Manager, PO Box 587, Arlington, VA 22216-0587. You may submit comments, in Spanish or English, by one of the following methods:

• E-mail: US-VISIT.environmental@dhs.gov.

• Mail or Hand Delivery/Courier: US-VISIT Program-Comments, Attn: Environmental Programs Manager, PO Box 587, Arlington, VA 22216-0587.

FOR FURTHER INFORMATION CONTACT: Lisa Mahoney, US-VISIT Environmental Program Manager, at: (202) 298-5245 or by e-mail at US-VISIT.environmental@dhs.gov; Monday-Friday, 8 a.m.-5 p.m. EST.

SUPPLEMENTARY INFORMATION: These four strategic approaches were developed with an understanding of potential future initiatives to enhance the Nation's immigration and border security. The four approaches are: (1) Maintaining the status quo by continuing current processes for assessing individuals and improving facilities, technology, and staff at the current rate; (2) implementing changes to the immigration and border management processes at the U.S. border through growth of both numbers of employees and physical capacity at the nation's land, air, and sea ports of entry; (3) implementing changes to the immigration and border management processes through technological enhancements that would allow eligibility and risk assessments to be made primarily overseas; and/or (4) a combination of approaches 2 and 3. Due to the national scope of this Draft PEA, the environmental impacts of implementing any of these approaches could occur within virtually every ecosystem in the United States. The Draft PEA is a qualitative assessment that provides information on the potential for significant environmental impacts from each of these four strategies that will be used to inform further policy and strategy development and future implementation of the proposed changes. This analysis provides results that will be used to focus any future environmental impact analyses on the most important resources of concern. The Draft PEA found that the resource areas most likely to be impacted by these changes are air quality and socioeconomics. The Draft PEA is being issued and made available to the public in accordance with the provisions of the Council on Environmental Quality (CEQ) regulations for implementing the National Environmental Policy Act of 1969 (NEPA). This Notice also announces that US-VISIT will conduct public meetings in February and March 2006 at seven locations in the United States, at which US-VISIT will invite the public to comment on information and analyses in the Draft PEA. The Draft PEA is available in English and Spanish. US-VISIT has made the Draft PEA widely available by distributing it (or a notice of its availability) to many interested parties, local and national newspapers, local libraries, and by posting it on the Internet. US-VISIT intends to issue subsequent Notices.

The dates and locations of all public meetings will be publicized no less than one week in advance in local news media in communities where the meetings will be held. Dates and locations are as follows: Miami, FL, McDonald Center, Rooms 1, 2, and 3 (Feb. 21); Buffalo, NY, Buffalo State College, Sport Arena Lobby Area (Feb. 23); Detroit, MI, Coleman A. Young Recreation Center, Multi-Purpose Room (Feb. 23); Tucson, AZ, Pima Community College, Amethyst Community Room, Building CC180 (Feb. 28); and El Paso, TX, El Paso High School (Feb. 28); Seattle/Bellingham, WA, Bellingham High School Commons Area (Mar. 2); San Diego/San Ysidro, CA, Southwestern Community College Student Center, East (Mar. 2).

Dated: February 8, 2006.
Manuel M. Rodriguez,
Director, US-VISIT Office of Facilities and Engineering.
James A. Williams,
Director, US-VISIT.

[FR Doc. E6-2287 Filed 2-16-06; 8:45 am]

BILLING CODE 4410-10-P